DEPARTMENT OF AGRICULTURE

Office of the Secretary

Request for Nominations of Members for the National Agricultural Research, Extension, Education, and Economics Advisory Board, Specialty Crop Committee, and National Genetics Advisory Council

AGENCY: Research, Education, and Economics, USDA.

ACTION: Solicitation for membership.

SUMMARY: In accordance with the Federal Advisory Committee Act, 5 U.S.C. App., the United States Department of Agriculture announces the solicitation for nominations to fill vacancies on the National Agricultural Research, Extension, Education, and Economics Advisory Board and its subcommittees. There are 9 vacancies on the NAREEE Advisory Board; 3 vacancies on the Specialty Crop Committee; 3 vacancies on the Citrus Disease Subcommittee; and 3 vacancies on the National Genetics Advisory Council.

DATES: All nomination materials should be submitted in a single, complete package and received or postmarked by July 31, 2017.

ADDRESSES: The nominee's name, resume or CV, completed and signed Form AD-755, and any letters of support must be submitted via one of the following methods:

(1) Email to nareeeab@ars.usda.gov; or

(2) By mail delivery service to Sonny Perdue, Secretary, U.S. Department of Agriculture, 1400 Independence Avenue SW., Washington, DC 20250, Attn: NAREEE Advisory Board, Room 332A, Whitten Building.

FOR FURTHER INFORMATION CONTACT: Michele Esch, Director, National Agricultural Research, Extension, Education, and Economics Advisory Board, 1400 Independence Avenue SW., Room 332A, The Whitten Building, Washington, DC 20250-2255, telephone: 202-720-3684; fax: 202-720-6199; email: nareeeab@ars.usda.gov. Committee Web site: www.nareeeab.ree.usda.gov.

SUPPLEMENTARY INFORMATION:

Instructions for Nominations

Nominations are solicited from organizations, associations, societies, councils, federations, groups, and companies that represent a wide variety of food and agricultural interests throughout the country. Nominations for one individual who fits several of the categories listed above, or for more than one person who fits one category, will be accepted.

In your nomination letter, please indicate the specific membership category for each nominee if applying for the NAREEE Advisory Board or the subcommittee. Each nominee must submit a signed form AD-755, “Advisory Committee Membership Background Information” (which can be obtained from the contact person below or from: http://www.ocio.usda.gov/sites/default/files/docs/2012/AD-55_Master_2012_508%20Ver.pdf).

Nominations are open to all individuals without regard to race, color, religion, sex, national origin, age, mental or physical handicap, marital status, or sexual orientation. To ensure the recommendation of the Advisory Board take into account the needs of the diverse groups served by the USDA, membership shall include, to the extent practicable, individuals with demonstrated ability to represent the needs of all racial and ethnic groups, women and men, and persons with disabilities.

Please note, individuals may not serve on more than one USDA Federal Advisory Committee. As for Federal Register lobbyists, individuals appointed to the committees to exercise their own individual best judgment on behalf of the government (e.g., Special Government Employees) are ineligible to serve.

All nominees will be carefully reviewed for their expertise, leadership, and relevance. All nominees will be vetted before selection.

Appointments to the National Agricultural Research, Extension, Education, and Economics Advisory Board and its subcommittees will be made by the Secretary of Agriculture.

National Agricultural Research, Extension, Education, and Economics Advisory Board

The National Agricultural Research, Extension, Education, and Economics Advisory Board was established in 1996 via Section 1408 of the National Agricultural Research, Extension, and Teaching Policy Act of 1977 (7 U.S.C. 3123) to provide advice to the Secretary of Agriculture and land-grant colleges and universities on top priorities and policies for food and agricultural research, education, extension, and economics. Section 1408 of the National Agricultural Research, Extension, and Teaching Policy Act of 1977 was amended by the Farm Security and Rural Investment Act of 2002 to reduce the number of members on the National Agricultural Research, Extension, Education, and Economics Advisory Board to 25 members and required the Board to also provide advice to the Committee on Agriculture of the House of Representatives, the Committee on Agriculture, Nutrition, and Forestry of the Senate, the Subcommittee on Agriculture, Rural Development, Food and Drug Administration and Related Agencies of the Committee on Appropriations of the House of Representatives, and the Subcommittee on Agriculture, Rural Development and Related Agencies of the Committee on Appropriations of the Senate.

Since the Advisory Boards inception by congressional legislation in 1996, each member has represented a specific category related to farming or ranching, food production and processing, forestry research, crop and animal science, land-grant institutions, non-land grant college or university with a historic commitment to research in the food and agricultural sciences, food retailing and marketing, rural economic development, and natural resource and consumer interest groups, among many others. The Board was first appointed by the Secretary of Agriculture in September 1996 and one-third of its members were appointed for a one, two, and three-year term, respectively. The terms for 9 members who represent specific categories will expire September 30, 2017. Nominations for a 3-year appointment for these 9 vacant categories are sought. All nominees will be carefully reviewed for their expertise, leadership, and relevance to a category.

The 9 slots to be filled are:

Category B. Farm Cooperatives

Category D. Plant Commodity Producer

Category E. National Aquaculture Association

Category H. National Food Science Organization

Category J. National Nutritional Science Society

Category K. 1862 Land-Grant Colleges and Universities

Category V. National Forestry Group

Category W. National Conservation or Natural Resource Group

Category Y. National Social Science Association

Specialty Crop Committee

The Specialty Crop Committee was created as a subcommittee of the National Agricultural Research, Extension, Education, and Economics Advisory Board in accordance with the Specialty Crops Competitiveness Act of 2004 under Title III, Section 303 of Public Law 108-465. The committee was formulated to study the scope and effectiveness of research, extension, and economics programs affecting the specialty crop industry. The legislation defines “specialty crops” as fruits, vegetables, tree nuts, dried fruits and nursery crops (including floriculture). The Agricultural Act of 2014 further expanded the scope of the Specialty Crop Committee to provide advice to the Secretary of Agriculture on the relevancy review process of the Specialty Crop Research Initiative, a granting program of the National Institute of Food and Agriculture.

Members should represent the breadth of the specialty crop industry. 6 members of the Specialty Crop Committee are also members of the National Agricultural Research, Extension, Education, and Economics Advisory Board and 6 members represent various disciplines of the specialty crop industry.

The terms of 3 members will expire on September 30, 2017. The Specialty Crop Committee is soliciting nominations to fill 3 vacant positions to represent the specialty crop industry. Appointed members will serve 3 years with their terms expiring in September 2020.

National Genetic Resources Advisory Council

The National Genetic Resources Advisory Council was re-established in 2012 as a permanent subcommittee of the National Agricultural Research, Extension, Education, and Economics Advisory Board to formulate recommendations on actions and policies for the collection, maintenance, and utilization of genetic resources; to make recommendations for coordination of genetic resources plans of several domestic and international organizations; and to advise the Secretary of Agriculture and the National Genetic Resources Program, part of the Agricultural Research Service, of new and innovative approaches to genetic resources conservation.

The National Genetic Resources Advisory Council membership is required to have two-thirds of the appointed members from scientific disciplines relevant to the National Genetic Resources Program including agricultural sciences, environmental sciences, natural resource sciences, health sciences, and nutritional sciences; and one-third of the appointed members from the general public including leaders in fields of public policy, trade, international development, law, or management.

The terms of 3 members of the National Genetic Resources Advisory Council will expire on September 30, 2017. We are seeking nominations for a 3-year appointment effective October 1, 2017 through September 30, 2020. The 3 slots to be filled are to be composed of 2 scientific members and 1 general public member.

Citrus Disease Subcommittee

The Citrus Disease Subcommittee was established by the Agricultural Act of 2014 (Sec. 7103) to advise the Secretary of Agriculture on citrus research, extension, and development needs, engage in regular consultation and collaboration with USDA and other organizations involved in citrus, and provide recommendations for research and extension activities related to citrus disease. The Citrus Disease Subcommittee will also advise the Department on the research and extension agenda of the Emergency Citrus Disease Research and Extension Program, a granting program of the National Institute of Food and Agriculture.

The subcommittee is composed of 9 members who must be a producer of citrus with representation from the following States: Three members from Arizona or California, five members from Florida, and one member from Texas.

The terms of 3 Citrus Disease Subcommittee will expire on September 30, 2017. The Citrus Disease Subcommittee is soliciting nominations to fill 3 vacant positons for membership; 1 position is to represent Florida, 1 position is to represent California or Arizona, and 1 position is to represent Texas. Appointed members will serve 3 years with their terms expiring in September 2020.

Done at Washington, DC, this 8th day of June 2017.
Ann Bartuska,
Acting Under Secretary, Research, Education, and Economics.

[FR Doc. 2017-12505 Filed 6-15-17; 8:45 am]

BILLING CODE 3410-03-P